DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from May 11 to May 15, 2009.

For further information, please contact Edson Beall via: United States Postal Service mail, at the National Register of Historic Places, 2280, National Park Service, 1849 C St., NW., Washington, DC 20240; in person (by appointment), 1201 Eye St., NW., 8th Floor, Washington, DC 20005; by fax, 202-371-2229; by phone, 202-354-2255; or by e-mail, Edson_Beall@nps.gov.

Dated: June 23, 2009.
J. Paul Loether,
Chief, National Register of Historic Places/National Historic Landmarks Program.

KEY: State, County, Property Name, Address/Boundary, City, Vicinity, Reference Number, Action, Date, Multiple Name

ARIZONA

Yavapai County

North Prescott Townsite Historic District, Between Gurley, Sheldon, Alarcon and Summit Sts., Prescott, 08001188, Listed, 5/13/09

ARKANSAS

Clay County

Rector Waterworks Building, 703 S. Main St., Rector, 09000312, Listed, 5/12/09

Crittenden County

Highway A-7, Gilmore to Turrell, old US 63 between Acwin St. in Gilmore and ditch No. 2 in Turrell, Gilmore vicinity, 09000313, Listed, 5/12/09 (Arkansas Highway History and Architecture MPS)

Logan County

Paris Commercial Historic District, roughly bounded by N. Express, Short Mountain, N. First, E. Pine, E. and W. Academy Sts., Paris, 09000314, Listed, 5/12/09

Poinsett County

Highway A-7, Bridges Historic District, old US 63 over Ditch No. 1 and its reliefs, Marked Tree vicinity, 09000318, Listed, 5/12/09 (Historic Bridges of Arkansas MPS)

COLORADO

Weld County

Von Trotha-Firestien Farm at Bracewell, Address Restricted, Greeley, 09000291, Listed, 5/12/09 (Historic Farms and Ranches of Weld County MPS)

IDAHO

Latah County

Nordby Farmstead, 1301 Old Highway 95, Genesee, 09000293, Listed, 5/15/09 (Agricultural Properties of Latah County, Idaho)

Twin Falls County

Salmon Falls Dam, Three Creek Hwy, Rogerson vicinity, 09000328, Listed, 5/15/09

ILLINOIS

Sangamon County

Route 66 South of Lake Springfield, Olde Rt. 66/Olde Carriage Way, Springfield vicinity, 09000296, Listed, 5/12/09 (Route 66 through Illinois MPS)

IOWA

Hardin County

Eldora Downtown Historic District, Approximately ten blocks in downtown Eldora around the courthouse square, Eldora, 09000297, Listed, 5/12/09 (Iowa's Main Street Commercial Architecture MPS)

Union County

Iowana Hotel, 203 W. Montgomery St., Creston, 09000298, Listed, 5/12/09

MISSOURI

Cape Girardeau County

Jefferson School, 731 Jefferson Ave., Cape Girardeau, 09000300, Liisted, 5/12/09

Cole County

Stephens, Hugh and Bessie, House, 601 Jackson St., Jefferson City, 09000301, Listed, 5/12/09

Newton County

Bonnie & Clyde Garage Apartment, 3347½ Oak Ridge Dr., Joplin, 09000302, Listed, 5/15/09

NEW YORK

Kings County

Industrial Complex at 221 McKibbin Street, 221 McKibbin St., Brooklyn, 09000303, Listed, 5/12/09

New York County

240 Central Park South, 240 Central Park S., New York, 09000304, Listed, 5/12/09

NORTH CAROLINA

Cleveland County

West Warren Street Historic District, Roughly bounded by W. Warren, McBrayer, Blanton, and Whisnant Sts., Shelby, 09000331, Listed, 5/12/09

Gates County

Sunbury High School, 101 NC 32 N., Sunbury, 09000332, Listed, 5/12/09

TEXAS

Matagorda County

Bay City Post Office, 2100 Ave. F, Bay City, 09000307, Listed, 5/12/09

Williamson County

Zidell House, 2015 W. Lake Dr., Taylor, 09000308, Listed, 5/12/09

VIRGINIA

Clarke County

Bear's Den Rural Historic District, Generally runs along both sides of ridge along parts of Raven Rocks and Blue Ridge Mtn. Rds., Bluemont vicinity, 08001112, Listed, 5/14/09

WISCONSIN

Jefferson County

Curtis, David W. and Jane, House, 213 E. Sherman Ave., Fort Atkinson, 09000309, Listed, 5/12/09

Wood County

Soo Line Steam Locomotive 2442, circa 1800 S. Central Ave., Marshfield, 09000310, Listed, 5/13/09

[FR Doc. E9-15884 Filed 7-6-09; 8:45 am]

BILLING CODE P